GENERAL SERVICES ADMINISTRATION

41 CFR Parts 300-3, 301-50, 301-52, 301-70, and 301-73

[FTR Amendment 2003-07; FTR Case 2003-303]

RIN 3090-AH83

Federal Travel Regulation; eTravel Service (eTS)

AGENCY: Office of Governmentwide Policy, General Services Administration (GSA).

ACTION: Final rule.

SUMMARY: This final rule is issued to amend the Federal Travel Regulation's (FTR) required use of a travel management service to the required use of the Governmentwide eTravel Service. This final rule revises the term and definition of “Travel Management System (TMS)” to “Travel Management Service.” This final rule amends FTR requirements governing employees' use of their agencies' Travel Management Services (TMS) and the eTravel Service (eTS). This final rule also requires agencies to submit migration plans and schedules to the eTravel Program Management Office (PMO) no later than March 31, 2004, implement the eTS no later than December 31, 2004, and complete migration to eTS for full agency-wide use by September 30, 2006 (unless an exception, as defined within this regulation has been granted). This final rule specifies that award of a task order to a vendor under the eTS Master Contract constitutes eTS implementation. These changes will improve management efficiency and increase cost effectiveness.

DATES: Effective Date: January 21, 2004.

FOR FURTHER INFORMATION CONTACT: The Regulatory Secretariat, Room 4035, GS Building, Washington, DC, 20405, (202) 208-7312, for information pertaining to status or publication schedules. For clarification of content, contact Umeki Thorne, Office of Governmentwide Policy, Travel Management Policy, at (703) 872-8590. Please cite FTR case 2003-303, FTR Amendment 2003-07.

SUPPLEMENTARY INFORMATION:

A. Background

The President's Management Agenda (PMA) for fiscal year 2002 identified five Governmentwide goals to improve Federal management and deliver results. This resulted in the establishment of a Governmentwide task force known as QuickSilver to address performance gaps in existing Government systems as they relate to E-Government, and to improve internal efficiency and effectiveness throughout the Federal Government. Accordingly, in support of the PMA, the Government is procuring the eTravel Service (eTS) from Government contract suppliers to replace agencies' current Travel Management Systems (TMS) (see section 301-1.1 of the FTR for the definition of “agency”). This final rule amends the FTR by requiring, with specified exceptions, the use of the common Governmentwide, end-to-end eTS. This regulation does not apply to the Department of Defense or the Government of the District of Columbia.

This final rule continues to be written in the “plain language” style of regulation writing as a continuation of the General Services Administration's (GSA) effort to make the FTR easier to understand and use. Questions are in the first person, and answers are in the second person. GSA uses a “we” and “you” question when referring to an agency, and an “I” and “you” question when referring to the employee. However, the rules stated in either section apply to both the employee and agency.

A proposed rule with request for comments was published in the Federal Register on June 30, 2003 (68 FR 38661). During the 30-day comment period, GSA received feedback from ten Federal agencies and one individual. GSA has carefully reviewed each comment, and based on those comments, this final rule modifies the proposed rule. An explanation of changes and/or further responses to questions received are discussed as follows.

Section 300-3.1 Glossary of Terms

One agency asked for a definition of “in-house system” and suggested that GSA rearrange the wording within the definition of “travel management service” to make it clear that an “in-house system” is not a part of a commercial method of arranging travel. GSA addresses this comment by stating that an “in-house (travel) system” is where some or all of an agency's travel processes (e.g., travel reservation and ticketing services) are provided by the agency's employees. GSA has also rearranged the wording within the definition of “travel management service” to distinguish between an agency's “in-house system” and an agency's commercial method of arranging travel.

Section 301-50.3 Must I Use the eTravel Service To Arrange My Travel?

Scope of eTravel Service. This section defines the scope of the eTS, as well as the required date of agencies' full deployment. One Federal agency pointed out that the policy requirements in this section, which stated that this regulation applies to all Executive branch agencies, conflicted with the statement in the Summary of the proposed rule, which stated that the eTS will require all agencies subject to the Federal Travel Regulation (FTR) to begin migration to the eTS as soon as possible. GSA appreciates and agrees with this comment. As a result, GSA has revised the section to clarify that this rule applies to all agencies as defined in section 301-1.1, with the exception of the Department of Defense and the Government of the District of Columbia.

One agency stated that because agencies may phase in the eTS at different times for its various organizational components, the requirement should be that an employee must use the eTS when the agency makes the service available to the employee. GSA agrees with this comment. The regulation's intent is that employees will begin using eTS when the service becomes available within an agency, unless an exception applies under section 301-50.4, 301-73.102 or 301-73.104, and the agency will make it available no later than September 30, 2006. As a result, section 301-50.3 has been modified.

Section 301-50.4 May I Be Granted an Exception to the Required Use of the eTravel Service?

The section heading in the proposed rule, “Who in my agency has the authority to waive the required use of a Travel Management Service or the eTravel Service,” has been revised to read, “May I be granted an exception to the required use of the eTravel Service?”

Section 301-50.5 What Is My Liability If I Do Not Use My Agency's TMS or the eTravel Service and an Exception Has Not Been Approved?

Section 301-50.6 Are There Any Limits on the Travel Arrangements I May Make?

One agency stated that sections 301-50.5 and 301-50.6 should be reversed. GSA is not persuaded that this change is needed, and the order of these sections remains unchanged.

Section 301-50.6 Are There Any Limits on the Travel Arrangements I May Make?

Limitations On The Use of Travel Management Services. This section imposes certain requirements and limitations on arranging for travel services. One agency stated that GSA should clarify that there are other regulations, contract provisions, etc., with which both travelers and TMS providers must comply when making common carrier, lodging, or car rental reservations. GSA has considered this change and has added a sentence to this section to acknowledge that there may be additional limits on the travel arrangements that a traveler makes.

Section 301-52.3 Am I Required To File a Travel Claim in a Specific Format and Must the Claim Be Signed?

This section describes the process for filing a travel claim. One agency questioned whether this section applies to infrequent Government travelers, Government employees traveling for an agency/bureau other than the employing agency, and invitational travelers. GSA's answer is yes. The use of eTS applies to all travelers subject to the FTR, with the exception of employees of the Department of Defense and the Government of the District of Columbia. However, an agency head or his/her designee may grant individual case-by-case exceptions to the use of eTS in accordance with sections 301-73.102 and 301-73.104 of this regulation. In addition, if a traveler is unable to use a portion of the eTS, (e.g., reservation services), the traveler is not exempt from the requirement to use the remaining eTS components.

Section 301-73.2 What Are Our Responsibilities as Participants in the Federal Travel Management Program?

This section defines what an agency must do under the Federal travel management program. One agency asked how would an agency support eTS in an “efficient” and “cost effective” manner and determine that support is “efficient” and “cost effective” other than through normal contracting procedures. GSA's response is that an agency can determine if its current TMS is cost effective by comparing its current service costs and benefits to the cost of services and benefits provided by the eTS contract. This will be accomplished through a competitive task order evaluation among the eTS contractors.

Section 301-73.100 Must We Require Employees To Use the eTravel Service?

This section sets the dates by which agencies must implement the eTS. eTS implementation is when an agency places a task order with an eTS vendor. It was unclear to one agency what GSA meant by the parenthetical “if applicable” in the note to this section. GSA agrees that the words “if applicable” may have been confusing to the reader and has therefore removed the use of these words throughout this regulation.

Two agencies requested more clarification in regard to the statement “Agency-wide use of the eTS accommodating FedTrip through September 30, 2004, and agency-contracted TMC support * * *”. GSA provides the following clarification: The Department of Transportation's Governmentwide contract with FedTrip will expire on September 30, 2004. Until that time, the eTS will accommodate agencies' use of FedTrip. Upon expiration of the FedTrip contract, the eTS-provided on-line booking engine(s) (OBEs) will become the designated OBE(s) for all agencies as defined in section 301-1.1 of this regulation, except for the Government of the District of Columbia and the Department of Defense. In addition, the note to this section has been revised to clarify that agencies may continue to use non-eTS government-contracted TMC services.

Section 307-73.101 How Must We Prepare To Implement the eTravel Service?

This section outlines the steps agencies should take to prepare for eTS migration. One agency stated that budgetary and personnel allocations should not be part of the FTR and that the eTS final rule should establish goals or targets for implementing eTS, but not direct agencies on budgetary or personnel matters. GSA agrees that normally the FTR would not address how an agency should arrange its travel related budget or personnel requirements. In this instance, however, GSA believes it is very important for agencies to prepare for the eTS migration/implementation by establishing their budget and personnel resources. GSA did, however, remove the provisions as a requirement under paragraph (c) and established it as a “Note” to provide guidance to agencies.

301-73.102 May We Grant an Employee an Exception From the Use of the eTravel Service?

301-73.104 May Further Exceptions to the Required Use of the eTravel Service Be Approved?

Section 301-73.102 governs agency approval of exceptions to the use of the eTS on an individual case-by-case basis; section 301-73.104 governs approval of exceptions on an agency-wide basis, or a sub-component thereof. Two agencies stated that the exceptions in the proposed rule were too limited and that an agency might have need for exceptions other than those listed. GSA has considered these comments and modified section 301-73.102 to broaden the circumstances under which an agency head may approve exceptions on an individual case-by-case basis. GSA has also modified section 301-73.104 to broaden circumstances under which GSA may grant an exception to a Department (or component thereof) or an Independent agency.

General Comments

eTravel Service (eTS) and Travel Management Service. One agency commented that the statement “eTS will replace Executive agencies' current Travel Management System” clearly conflicts with other portions of the regulation that are intended to give agencies choices in obtaining travel agent services (i.e., Government-contracted TMCs) outside of the eTS, while another agency stated that if the definition of a TMS were expanded, agencies would have flexibility to move to a system that might not require the intervention of a travel agency. GSA's response is that an agency may choose to incorporate a non eTS-provided TMC into eTS or use the eTS provided TMC services. However, the intent of eTS is not to replace an agency's Government-contracted TMC, but to deliver a unified, simplified service that delivers a cost effective travel experience, supports excellent travel management, and results in superior customer satisfaction. The eTS contractors must accommodate agency-contracted TMCs. GSA has revised the notes to sections 301-73.100 and 301-73.106 to better reflect this intent.

Adoption/Delay of Implementation. One agency asked if their agency should develop its own eTS or wait for the Governmentwide eTS. GSA's response is that use of the Governmentwide eTS is a requirement for all agencies subject to the FTR, with the exception of the Department of Defense and the Government of the District of Columbia. GSA has cautioned agencies against investing in new systems that will be agency-specific and non-transferable to the Governmentwide eTS.

One agency stated that GSA should change the agency's full deployment date of eTS from September 30, 2006 to December 31, 2007, and implementation from December 31, 2004 to December 31, 2005, while another agency stated that the required use of eTS should be delayed, or waivers granted, until eTS is tested and costs are known and benefits are shown. GSA's response is that migrating to eTS will improve internal efficiency and effectiveness throughout the Federal Government. In support of the President's Management Agenda for fiscal year 2002, representatives from twenty-seven agencies serving on the QuickSilver Task Force identified web-based travel management services as a high impact initiative. These benefits have been validated through business case analysis published under OMB 300/Exhibit 53 which outlines the funding for each agency to use for migration and full deployment to eTS. This information may be obtained through your agency's Chief Information Officer. Delayed migration to the eTS would unnecessarily delay cost savings and service benefits to agencies; for that reason, GSA is committed to its scheduled migration/full deployment dates.

eTS and DTS. One individual asked if the eTS will replace the DTS. GSA's response is no. Although the eTS is available for use by the Department of Defense (DOD), DOD has developed the DTS for its use.

Small Agencies/(eTS and International Travel/Training on eTS). One agency asked how eTS will incorporate small commissions/agencies, handle international travel, and if training will be provided on the program's application. The eTS will support all agencies, large and small. As a commercially hosted service, eTS is well-positioned to serve small agencies with a minimum investment and no IT overhead. If a small commission/agency receives travel management services (electronic authorizations and/or vouchers) from a larger cross-servicing agency, GSA recommends the small agency to work with the large agency to understand the large agency's plan and timeline for migrating to eTS. A small agency may determine there is value in continuing a relationship with the servicing agency, or it may migrate to eTS independently of the large agency.

Processing international travel through the eTS will be the same as processing domestic travel. Travelers will have access to an online booking engine with the ability to view and book international reservations (air, hotel, rental, car, etc.) without calling a travel agent. The eTS also includes traditional travel agency services should a traveler require the assistance of a travel agent for more complex international (or domestic) trips. (Note: An agency may continue to use its own TMC in conjunction with eTS, or it may use the TMC provided by its eTS vendor.)

The eTS vendors are required to provide training on the standard migration services. Additionally, each vendor may provide supplemental training services at the agency's option.

Migration to eTS. One agency asked what GSA means by the term “migration.” GSA defines “migration” as when an agency is actively moving from its current travel management service to the eTS. Migration begins when an agency submits its migration plan to the eTravel PMO and ends when an agency has fully deployed the eTS.

One agency stated that it would submit its migration plan and schedule within three months, once the eTS vendors are selected and they know what steps need to be taken. As long as this agency submits its migration plan and schedule to the eTravel PMO no later than March 31, 2004, it will be in compliance with this regulation. Migration plans are the roadmap for agencies to migrate to eTS. The migration plan represents tasks and key decisions each agency must map out in order to make an informed and intelligent decision regarding its eTS migration.

One agency asked whether all bureaus within an agency have to begin migration to eTS for an agency to receive credit for beginning migration. GSA's response is yes. An agency's migration to the eTS begins when it submits to the eTravel PMO the agency's plan to migrate all bureaus/activities to eTS. Agencies are strongly encouraged to submit a task order that will include the handling of all activities under its organization (i.e., a task order signed by the designated authority at a Department (for cabinet-level agencies) or the head of an Independent Agency that will apply to all its sub-organizations under its Department or Independent agency).

One agency asked what the eTS PMO will do if an agency does not have funds to migrate to the eTS. The eTS PMO has been working with the Office of Management and Budget (OMB) and Federal financial officers to identify funds for migration to the eTS during fiscal year 2004/2005 budget cycles. The OMB has indicated that its resource management officers are working with agencies to allocate funding for all E-Government Initiatives launched in support of the President's Management Agenda published in FY 2002. The note in section 301-73.101 of this regulation provides guidance to agencies on the importance of allocating budgets and establishing personnel resources to support the migration to eTS.

Funds. One agency stated that agencies may incur expenses to end or modify contracts with TMCs in order to migrate to eTS. That agency asked if the eTS PMO will subsidize or account for such costs. GSA's response is, expenses incurred as a result of contractual actions related to orders for travel management services are the responsibility of the ordering agency. This applies for orders placed under GSA contract vehicles, as well as orders under other agency contracts. When an agency prepares its migration plan, it should identify the types of constraints it may encounter and take steps to mitigate any risk by coordinating eTS migration schedules to address risk mitigation strategies, such as the expiration of contract option periods. We note that this FTR amendment does permit an agency to continue using its existing TMC in conjunction with eTS.

One agency asked, if GSA will publish eTS metrics and baseline costs per transaction so that agencies have a benchmark to determine if it would be impractical from a cost perspective to migrate to eTS. GSA's response is yes. The eTS PMO will provide a contractor-pricing schedule that will identify transactional costs for reservations, online voucher services costs and charges for other services to assist agencies in comparing their current systems to eTS.

One agency stated that GSA should identify and publish the cost it plans to charge agencies/bureaus for the eTS. The eTS PMO will provide the Industrial Funding Fee (IFF) and contractor price schedules.

FPLP. One agency stated that its employees have found that they can stay at an FPLP lodging facility at a greatly reduced fee if they do not identify themselves as a Federal traveler, and that rooms can be obtained at rates at a significantly lower rate than the Government published rate. When selecting a commercial lodging facility, first consideration must be given to the commercial lodging facilities contracted by GSA under the FPLP that meet the fire safety requirements, where available, unless certain conditions exist under section 301-50.6 of this regulation. However, when a traveler can obtain a lower rate at an FPLP lodging facility, the employee is encouraged to do so. This is consistent with the long-standing policy that employees should exercise the same standards of care when incurring expenses on official business that a prudent person would exercise if traveling on personal business. During a sluggish economy, hotels are deeply discounting rooms forecasted not to sell within a short window of time. However, in a better economy, hotels need not reduce rates, and may increase them. When companies and Government agencies negotiate long term discounted lodging rates for their preferred lodging programs, these rates are based on a year-long commitment not subject to changes in the economy, and these rates provide overall better value to travelers.

B. Executive Order 12866

This is not a significant regulatory action and, therefore, was not subject to review under Section 6(b) of Executive Order 12866, Regulatory Planning and Review, dated September 30, 1993. This rule is not a major rule under 5 U.S.C. 804.

C. Regulatory Flexibility Act

This final rule is not required to be published in the Federal Register for notice and comment; therefore, the Regulatory Flexibility Act, 5 U.S.C. 601, et seq., does not apply.

D. Paperwork Reduction Act

The Paperwork Reduction Act does not apply because the changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates solely to agency management and personnel.

List of Subjects in 41 CFR Parts 300-3, 301-50, 301-52, 301-70, and 301-73

Government employees, Travel and transportation expenses.

Dated: December 8, 2003.
Stephen A. Perry,
Administrator of General Services.

For the reasons set out in this preamble, 41 CFR parts 300-3, 301-50, 301-52, 301-70, and 301-73 are amended as set forth below:

PART 300-3—GLOSSARY OF TERMS

1. The authority citation for 41 CFR part 300-3 is revised to read as follows:

Authority: 5 U.S.C. 5707; 5 U.S.C. 5738; 5 U.S.C. 5741-5742; 20 U.S.C. 905(a); 31 U.S.C. 1353; 40 U.S.C. 121(c); 49 U.S.C. 40118; E.O. 11609, 3 CFR, 1971-1975 Comp., p.586.

2. Amend § 300-3.1 by removing the term and definition “Travel Management System (TMS)”; and adding in alphabetical order the terms and definitions, “eTravel Service (eTS)” and “Travel Management Service (TMS)” to read as follows:

§ 300-3.1 What do the following terms mean?

* * * * *

eTravel Service (eTS)—The Government-contracted, end-to-end travel management service that automates and consolidates the Federal travel process in a self-service Web-centric environment, covering all aspects of official travel, including travel planning, authorization, reservations, ticketing, expense reimbursement, and travel management reporting. The eTS provides the services of a Federal travel management program as specified in § 301-73.1(a), (b), and (e) of this title.

* * * * *

Travel Management Service (TMS)—A service for booking common carrier (e.g., air, rail, and bus confirmations and seat assignments), lodging accommodations, and car rental services; fulfilling (i.e. ticketing) reservations; providing basic management information on those activities; and meeting other requirements as specified in § 301-73.106 of this title. A TMS may include a travel management center (TMC), Commercial Ticket Office (CTO), an electronically available system, other commercial methods of arranging travel, or an in-house system.

* * * * *

PART 301-50—ARRANGING FOR TRAVEL SERVICES

3. Revise part 301-50 to read as follows:

Sec.
301-50.1 To whom do the pronouns “I”, “you”, and their variants throughout this part refer?
301-50.2 How must I arrange my travel?
301-50.3 Must I use the eTravel Service to arrange my travel?
301-50.4 May I be granted an exception to the required use of the eTravel Service?
301-50.5 What is my liability if I do not use my agency's TMS or the eTravel Service, and an exception has not been approved?
301-50.6 Are there any limits on travel arrangements I may make?

Authority: 5 U.S.C. 5707; 40 U.S.C. 121(c).

§ 301-50.1 To whom do the pronouns “I”, “you”, and their variants throughout this part refer?

In this part, the pronouns “I”, “you”, and their variants refer to the employee.

§ 301-50.2 How must I arrange my travel?

You must arrange your travel as designated by your agency and in accordance with this part.

§ 301-50.3 Must I use the eTravel Service to arrange my travel?

Yes, if you are an employee of an agency as defined in § 301-1.1 of this chapter, you must use the eTravel Service when your agency makes it available to you. Until then, you must use your agency's existing Travel Management System (TMS) to make your travel arrangements. If you are an employee of the Department of Defense (DoD) or of the Government of the District of Columbia, you must arrange your travel in accordance with your agency's TMS.

§ 301-50.4 May I be granted an exception to the required use of the eTravel Service?

Your agency head or designee(s) may grant case-by-case exceptions to the use of eTS when it—

(a) Causes an unreasonable burden on your agency mission accomplishment(s) (e.g., emergency travel (and eTS is not accessible), invitational travel, necessity of disability accommodations or special needs (in accordance with part 301-13 of this chapter));

(b) Compromises a national security interest; or

(c) May endanger the life of the traveler (e.g., an individual traveling under the Federal witness protection program, or threatened law enforcement/investigative personnel traveling in accordance with part 301-31 of this chapter).

§ 301-50.5 What is my liability if I do not use my agency's TMS or the eTravel Service, and an exception has not been approved?

If you do not have an approved exception under §§ 301-50.4 or 301-73.104 of this chapter, you are responsible for any additional costs resulting from the failure to use the TMS or eTravel Service, including service fees, cancellation penalties, or other additional costs (e.g., higher airfares, rental car charges, or hotel rates). In addition, your agency may take appropriate disciplinary action.

§ 301-50.6 Are there any limits on travel arrangements I may make?

Yes, there are limits on travel arrangements you may make for common carrier, commercial lodging, and car rental accommodations. Such limitations include, but are not limited to the following:

(a) Common carrier accommodations. (1) If your agency is a mandatory user of the General Services Administration's city-pair contracts for air passenger transportation services, you must use the contract carrier, unless you have an approved exception (see §§ 301-10.107 and 301-10.108 of this chapter);

(2) You may use premium-class accommodations only under §§ 301-10.121 through 301-10.124, 301-10.162, and 301-10.183 of this chapter; and

(3) You must always use a U.S. Flag Air Carrier unless your travel circumstances meet one of the exceptions in §§ 301-10.131 through 301-10.143 of this chapter.

(b) Lodging accommodations. (1) You should always stay in a “fire safe” facility. This is a facility that meets the fire safety requirements of the Hotel and Motel Fire Safety Act of 1990, as amended (see 5 U.S.C. 5707a).

(2) When selecting a commercial lodging facility, first consideration must be given to the commercial lodging facilities contracted by GSA under the Federal Premier Lodging Program (FPLP) (a list of FPLP facilities may be found on the Internet at http://www.gsa.gov), all of which meet fire safety requirements, unless one or more of the following conditions exist:

(i) An FPLP facility is not available at the location you need (e.g., there are no FPLP facilities under contract within a reasonable proximity of your temporary duty station, or there are no vacancies at the FPLP facilities at that location). (Your agency's TMS or eTravel Service (eTS) must provide you with a list of alternative facilities that meet the fire safety requirements of the Act).

(ii) Your agency has other contractual arrangements with commercial lodging facilities that meet the FEMA fire safety requirements at a lower cost than FPLP properties.

(iii) Your agency determines on an individual case-by-case basis that it is not practical to use FPLP facilities to meet mission requirements.

(iv) You are attending a conference with prearranged lodging accommodations and are required to book lodging directly with the lodging facility.

(v) Your travel is OCONUS.

(c) Car rental accommodations. When authorized to use a rental vehicle under § 301-10.450 of this chapter, you must rent a vehicle from a vendor that participates in the Military Traffic Management Command (MTMC) U.S. Government Car Rental Agreement, unless you are OCONUS and no agreement is in place for your TDY location. MTMC has negotiated rental car agreements that include automatic unlimited mileage, collision damage insurance, and ceiling rates.

PART 301-52—CLAIMING REIMBURSEMENT

4. Revise the authority citation for 41 CFR part 301-52 to read as follows:

Authority: 5 U.S.C. 5707; 40 U.S.C. 121(c); Sec. 2., Pub. L. 105-264, 112 Stat. 2350 (5 U.S.C. 5701 note).

5. Revise § 301-52.3 to read as follows:

§ 301-52.3 Am I required to file a travel claim in a specific format and must the claim be signed?

As soon as your agency migrates to the eTravel Service (eTS), you must use the eTS to file all your travel claims. (Agencies are required to migrate to the eTS no later than September 30, 2006.) Until that time, you must file your travel claim in the format prescribed by your agency. If the prescribed travel claim is hardcopy, the claim must be signed in ink. Any alterations or erasures to your hardcopy travel claim must be initialed. If your agency has electronic processing, use your electronic signature where required.

PART 301-70—INTERNAL POLICY AND PROCEDURE REQUIREMENTS

6. Revise the authority citation for 41 CFR part 301-70 to read as follows:

Authority: 5 U.S.C. 5707; 40 U.S.C. 121(c); Sec 2, Pub. L. 105-264, 112 Stat. 2350 (5 U.S.C. 5701 note.)

7. Revise § 301-70.1 to read as follows:

§ 301-70.1 How must we administer the authorization and payment of travel expenses?

When administering the authorization and payment of travel expenses, you—

(a) Must limit the authorization and payment of travel expenses to travel that is necessary to accomplish your mission in the most economical and effective manner, under rules stated throughout this chapter;

(b) Should give consideration to budget constraints, adherence to travel policies, and reasonableness of expenses;

(c) Should always consider alternatives, including teleconferencing, prior to authorizing travel; and

(d) Must require employees to use the eTS to process travel authorizations and claims for travel expenses once you migrate to the eTS, but no later than September 30, 2006, unless an exception has been granted under §§ 301-73.102 or 301-73.104 of this chapter.

PART 301-73—TRAVEL PROGRAMS

8. Revise the authority citation for 41 CFR part 301-73 to read as follows:

Authority: 5 U.S.C. 5707; 40 U.S.C. 121(c).

9. Amend Part 301-73 by revising subparts A and B to read as follows:

PART 301-73— TRAVEL PROGRAMS

Subpart—General Rules

Sec.
301-73.1 What does the Federal travel management program include?
301-73.2 What are our responsibilities as participants in the Federal travel management program?
Subpart B—eTravel Service and Travel Management Service
301-73.100 Must we require employees to use the eTravel Service?
301-73.101 How must we prepare to implement the eTravel Service?
301-73.102 May we grant a traveler an exception from the use of the eTravel Service?
301-73.103 What must we do when we approve an exception to the use of the eTravel Service?
301-73.104 May further exceptions to the required use of the eTravel Service be approved?
301-73.105 What are the consequences of an employee not using the eTravel Service or the TMS?
301-73.106 What are the basic services that should be covered by a TMS?

* * * * *

Subpart A—General Rules

§ 301-73.1 What does the Federal travel management program include?

The Federal travel management program includes—

(a) A travel authorization and claim system that implements the related requirements of the Federal Travel Regulation. (See §§ 301-2.1 and 301-52.3 and part 301-71 of this chapter for those requirements);

(b) A TMS that provides reservation and ticketing support and management reports on reservation and ticketing activities. (See § 301-73.106 for specific services that should be provided by a TMS);

(c) A Travel payment system for paying travel service providers in accordance to §§ 301-73.300 and 301-73.301 of this chapter;

(d) Contracts and similar arrangements, with transportation and lodging providers (e.g. Government-contract air carriers, rental car companies, trains, hotels (e.g., Federal Premier Lodging Program (FPLP) properties), etc.) that give preferential rates and other benefits to Federal travelers on official business; and

(e) A Travel Management Reporting System that covers financial and other travel characteristics required by the biennial Travel Survey (see §§ 300-70.1 through 300-70.4 of this title).

Note to § 301-73.1: The eTravel Service (eTS) fulfills the requirements of paragraphs (a), (b), and (e) of this section.

§ 301-73.2 What are our responsibilities as participants in the Federal travel management program?

As a participant in the Federal travel management program, you must—

(a) Designate an authorized representative to administer the program including leading your agency's migration of eTS;

(b) Ensure that you have internal policies and procedures in place to govern use of the program including a plan and timeline to implement eTS no later than December 31, 2004, with agency-wide migration to eTS completed no later than September 30, 2006;

(c) Establish a plan that will measure direct and indirect cost savings and management efficiencies through the use of eTS once deployed. This plan must include your migration plan and schedule which must be submitted by March 31, 2004 to the eTravel Program Management Office (PMO) (see § 301-73.101);

(d) Require employees to use eTS in lieu of your TMS as soon as it becomes available in your agency (unless an exception has been granted in accordance with §§ 301-73.102 or 301-73.104), but no later than September 30, 2006; and

(e) Ensure that any agency-contracted travel agency services (TMS) complement and support eTS in an efficient and cost effective manner.

Subpart B—eTravel Service and Travel Management Service

§ 301-73.100 Must we require employees to use the eTravel Service?

Yes, unless you have an exception to the use of the eTS (see §§ 301-73.102 and 301-73.104), you must have fully deployed the eTS across your agency and require employees to use the eTS for all temporary duty travel no later than September 30, 2006. Agencies must submit their eTS migration plans and schedules by March 31, 2004 to the eTravel PMO, (see § 301-73.101). You must implement the eTS no later than December 31, 2004, and require employees to use the eTS as soon as it becomes available in your agency. The Department of Defense and the Government of the District of Columbia are not subject to this requirement.

Notes to § 301-73.100: (1) You have the option to use the contracted travel agent service(s) of your choice (through the eTS or other contract vehicles). You have the responsibility for ensuring agency-contracted travel agent services complement and support the eTS in an efficient and cost effective manner. (2) Award of a task order to a vendor on the eTS Master Contract constitutes eTS implementation. Agency-wide use of the eTS for all travel management processes and travel claim submission constitutes complete migration.

§ 301-73.101 How must we prepare to implement the eTravel Service?

You must prepare to implement the eTS as expeditiously as possible by—

(a) Developing a migration plan and schedule to deploy eTS across your agency as early as possible with full deployment required no later than September 30, 2006; and

(b) Submitting your eTS migration plan and schedule by March 31, 2004 to the U.S. General Services Administration, Attention: eTravel PMO.

Note to § 301-73.101: Your agency should work with the Office of Management and Budget to allocate budget and personnel resources to support eTS migration and data exchange. Your agency is responsible for providing the funds required to establish interfaces between the eTS standard data output and applicable business systems (e.g., financial, human resources, etc.).

§ 301-73.102 May we grant a traveler an exception from the use of the eTravel Service?

Your agency head or his/her designee may grant individual case-by-case exceptions to the use of eTS when such use—

(a) Causes an unreasonable burden on mission accomplishment(s) (e.g., emergency travel (and eTS is not accessible), invitational travel, necessity of disability accommodations or special needs in accordance with part 301-13 of this chapter);

(b) Compromises a national security interest;

(c) May endanger the life of the traveler (e.g., an individual traveling under the Federal witness protection program or threatened law enforcement/investigative personnel traveling in accordance with part 301-31 of this chapter); or

(d) Is consistent with any contractual terms applicable to your agency (i.e., you must insure that any exceptions do not cause a breach of contract).

§ 301-73.103 What must we do when we approve an exception to use of the eTravel Service?

The head of your agency or his/her designee must approve an exception to the use of the eTS under § 301-73.102 in writing or through electronic means.

§ 301-73.104 May further exceptions to the required use of the eTravel Service be approved?

(a) The Administrator of General Services or his/her designee may grant an agency-wide exception (or exempt a component thereof) from the required use of eTS when requested by the head of a Department (cabinet-level agency) or head of an Independent agency when—

(1) The agency has presented a business case analysis to the General Services Administration that proves that it has an alternative TMS to the eTS that is in the best interest of the Government and the taxpayer (i.e., the agency has evaluated the economic and service values offered by the eTS contractor(s) compared to those offered by the agency's current Travel Management System (TMS) and has determined that the agency's current TMS is a better value);

(2) The agency has security, secrecy, or protection of information issues that cannot be mitigated through security provided by the eTS contractors;

(3) The agency lacks the technology necessary to access eTS; or

(4) The agency has critical and unique technology or business requirements that cannot be accommodated by the eTS contractors at all or at an acceptable and reasonable price (e.g., majority of travel is group-travel).

(b) As a condition of receiving an exception, the agency must agree to conduct annual business case reviews of its TMS and must provide to the eTravel PMO data elements required by the eTravel PMO in a format prescribed by the eTravel PMO.

(c) Requests for exceptions should be sent to the Administrator, General Services Administration, 1800 F Street, NW., Washington, DC 20405 with full justification and/or analysis addressing paragraphs (a)(1), (a)(2), (a)(3), or (a)(4) of this section.

§ 301-73.105 What are the consequences of an employee not using the eTravel Service or the TMS?

If an employee does not use the eTS (when available) or your agency's designated TMS, he/she is responsible for any additional costs (see § 301-50.5 of this chapter) resulting from the failure to use the eTS or your TMS. In addition, you may take appropriate disciplinary actions.

§ 301-73.106 What are the basic services that should be covered by a TMS?

The TMS must, at a minimum—

(a) Include a Travel Management Center (TMC), commercial ticket office (CTO), an in-house system, an electronically available system, or other method(s) of arranging travel, which has the ability to provide the following as appropriate to the agency's travel needs:

(1) Booking and fulfillment of common carrier arrangements (e.g., flight confirmation and seat assignment, compliance with the Fly America Act, Governmentwide travel policies, contract city-pair fares, electronic ticketing, ticket delivery, etc.).

(2) Lodging information (e.g., room availability, reservations and confirmation, compliance with Hotel/Motel Fire Safety Act, availability of Federal Premier Lodging Program properties, per diem rate availability, etc.).

(3) Car rental and rail information (e.g., availability of Military Traffic Management Command (MTMC) Government agreement rates where applicable, confirmation of reservations, etc.).

(b) Provide basic management information, such as—

(1) Number of reservations by type of service (common carrier, lodging, and car rental);

(2) Extent to which reservations are in compliance with policy and reasons for exceptions;

(3) Origin and destination points of common carrier usage;

(4) Destination points for lodging accommodations;

(5) Number of lodging nights in approved accommodations;

(6) City or location where car rentals are obtained; and

(7) Other tasks, e.g., reconciliation of charges on centrally billed accounts and processing ticket refunds.

Note to 301-73.106: The eTS fulfills the basic services of a TMS. You have the option to use the contracted travel agent service(s) of your choice through eTS or other contract vehicles. You have the responsibility to ensure that agency-contracted-for travel agent services complement and support the eTS in an efficient and cost effective manner. (See § 301-73.2).

[FR Doc. 03-31225 Filed 12-19-03; 8:45 am]

BILLING CODE 6820-14-P